NATIONAL SCIENCE FOUNDATION

Membership of National Science Foundation's Senior Executive Service Performance Review Board

AGENCY: National Science Foundation.

ACTION: Announcement of membership of the National Science Foundation's Senior Executive Service Performance Review Board.

SUMMARY: This announcement of the membership of the National Science Foundation's Senior Executive Service Performance Review Board is made in compliance with 5 U.S.C. 4314(c)(4).

ADDRESSES: Comments should be addressed to Director, Division of Human Resource Management, National Science Foundation, Room 315, 4201 Wilson Boulevard, Arlington, VA 22230.

FOR FURTHER INFORMATION CONTACT: Mr. Joseph F. Burt at the above address or (703) 292-8180.

SUPPLEMENTARY INFORMATION: The membership of the National Science Foundation's Senior Executive Service Performance Review Board is as follows: Joseph Bordogna, Deputy Director, Chairperson; Mary E. Clutter, Assistant Director for Biological Sciences; Deborah L. Crawford, Deputy Assistant Director for Computer and Information Science and Engineering; Anthony A. Arnolie, Director, Office of Information and Resource Management.

Dated: May 6, 2003.
Joseph F. Burt,
Acting Director, Division of Human Resource Management.

[FR Doc. 03-11820 Filed 5-12-03; 8:45 am]

BILLING CODE 7555-01-M